DEPARTMENT OF HOMELAND SECURITY

Coast Guard

33 CFR Part 117

[Docket No. USCG-2015-0742]

Drawbridge Operation Regulation; Gallants Channel, Beaufort, NC

AGENCY: Coast Guard, DHS.

ACTION: Notice of deviation from drawbridge regulations.

SUMMARY: The Coast Guard has issued a temporary deviation from the operating schedule that governs the US 70 (Grayden Paul) Bridge across Gallants Channel, mile 0.1, at Beaufort, NC. This temporary deviation allows the draw bridge to remain in the closed to navigation position to accommodate The Neuse Riverkeeper Foundation Triathlon participants to safely complete their race without interruptions from bridge openings.

DATES: This deviation is effective from 10 a.m. to 1:30 p.m. on September 12, 2015.

ADDRESSES: The docket for this deviation, [USCG-2015-0742] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Kashanda Booker, Bridge Administration Branch Fifth District, Coast Guard; telephone (757) 398-6227, email Kashanda.l.booker@uscg.mil. If you have questions on reviewing the docket, call Cheryl Collins, Program Manager, Docket Operations, 202-366-9826.

SUPPLEMENTARY INFORMATION: The event director for the Neuse Riverkeeper Foundation Triathlon, with approval from the North Carolina Department of Transportation, owner of the drawbridge, has requested a temporary deviation from the operating schedule to accommodate the Neuse Riverkeeper Foundation Triathlon.

The US 70 (Grayden Paul) Bridge operating regulations are set out in 33 CFR 117.823. The US 70 (Grayden Paul) Bridge across Gallants Channel, mile 0.1, a double-leaf bascule bridge, in Beaufort, NC has a vertical clearance in the closed position of 13 feet above mean high water.

Under this temporary deviation, the drawbridge will be allowed to remain in the closed-to-navigation position from 10 a.m. to 1:30 p.m. on Saturday, September 12, 2015 while race participants are competing in the Neuse Riverkeeper Foundation Triathlon.

The majority of the vessels that transit the bridge this time of the year are recreational boats. Vessels able to pass under the bridge in the closed position may do so at anytime and are advised to proceed with caution. The bridge will be able to open for emergencies and there is no alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: August 21, 2015.
Hal R. Pitts,
Bridge Program Manager, Fifth Coast Guard District.

[FR Doc. 2015-21163 Filed 8-26-15; 8:45 am]

BILLING CODE 9110-04-P